FEDERAL COMMUNICATIONS COMMISSION

[GN Docket No. 17-83; FR No. 17115]

Meeting of the Broadband Deployment Advisory Committee

AGENCY: Federal Communications Commission.

ACTION: Notice.

SUMMARY: In this document, the FCC announces and provides an agenda for the next meeting of the Broadband Deployment Advisory Committee (BDAC), which will be held via live internet link.

DATES: October 29 and 30, 2020. The meeting will come to order at 11 a.m. each day.

ADDRESSES: The Meeting will be held via conference call and available to the public via WebEx at http://www.fcc.gov/live.

FOR FURTHER INFORMATION CONTACT: Justin L. Faulb, Designated Federal Authority (DFO) of the BDAC, at justin.faulb@fcc.gov or 202-418-1589; Zachary Ross, Deputy DFO of the BDAC, at Zachary.ross@fcc.gov or 202-418-1033; or Belinda Nixon, Deputy DFO of the BDAC, at 202-418-1382, or Belinda.Nixon@fcc.gov. The TTY number is: (202) 418-0484.

SUPPLEMENTARY INFORMATION: The BDAC meeting is open to the public on the internet via live feed from the FCC's web page at http://www.fcc.gov/live. Open captioning will be provided for this event. Other reasonable accommodations for people with disabilities are available upon request. Requests for such accommodations should be submitted via email to fcc504@fcc.gov or by calling the Consumer & Governmental Affairs Bureau at (202) 418-0530 (voice), (202) 418-0432 (TTY). Such requests should include a detailed description of the accommodation needed. In addition, please include a way for the FCC to contact the requester if more information is needed to fill the request. Please allow at least five days' advance notice for accommodation requests; last minute requests will be accepted, but may not be possible to accommodate. Oral statements at the meeting by parties or entities not represented on the BDAC will be permitted to the extent time permits, at the discretion of the BDAC Chair and the DFO. Members of the public may submit comments to the BDAC in the FCC's Electronic Comment Filing System, ECFS, at www.fcc.gov/ecfs. Comments to the BDAC should be filed in Docket 17-83.

PROPOSED AGENDA: At this meeting, the BDAC will consider and vote on reports and recommendations from the Increasing Broadband Investment in Low-Income Communities, Broadband Infrastructure Deployment Job Skills and Training Opportunities, and Disaster Response and Recovery working groups. This agenda may be modified at the discretion of the BDAC Chair and the Designated Federal Officer (DFO).

Federal Communications Commission.
Pamela Arluk,
Chief, Competition Policy Division, Wireline Competition Bureau.

[FR Doc. 2020-22029 Filed 10-5-20; 8:45 am]

BILLING CODE 6712-01-P